DEPARTMENT OF THE TREASURY

Internal Revenue Service

Open Meeting of the Taxpayer Advocacy Panel Earned Income Tax Credit Issue Committee; Correction

AGENCY: Internal Revenue Service (IRS), Treasury.

ACTION: Correction to notice.

SUMMARY: This document contains a correction to an open meeting of the Taxpayer Advocacy Panel Earned IncomeTax Credit Issue Committee being conducted in Las Vegas, Nevada, which was published in the Federal Register on Monday, April 19, 2004 (69 FR 20964).

FOR FURTHER INFORMATION CONTACT: Audrey Y. Jenkins at 1-888-912-1227 (toll-free) or 718-488-2085.

SUPPLEMENTARY INFORMATION:

Background

The notice that is the subject of this correction is pursuant to section 10(a)(2) of the Federal Advisory Committee Act, 5 U.S.C. App. (1988).

Need for Correction

As published, the notice contains errors which may prove to be misleading and are in need of clarification.

Correction of Publication

Accordingly, the publication of the notice, which was the subject of FR Doc. 04-8829, is corrected as follows:

(1) On page 20964, column 1, under the caption DATES, the language, “The meeting will be held Friday, May 14, 2004 and Saturday, May 15, 2004.” is corrected to read “The meeting will be held Thursday, May 13, 2004, until Saturday, May 15, 2004.”

(2) On page 20964, column 2, under the caption SUPPLEMENTARY INFORMATION, the language, “Friday, May 14, 2004 from 1:30 p.m. to 5:30 p.m. p.t. and Saturday, May 15, 2004 from 8 a.m. to 12 p.m. p.t. in Las Vegas, Nevada at the Flamingo Las Vegas Hotel located at 3555 Las Vegas Blvd. South, Las Vegas, NV 89109-8919.” is corrected to read “Thursday, May 13, 2004, from 8:30 a.m. p.t. until 5:30 p.m., Friday, May 14, 2004, from 9 a.m. p.t. to 5:30 p.m., and Saturday, May 15, 2004, from 8:30 a.m. p.t. until 12 p.m. p.t. in Las Vegas, Nevada, at the Flamingo Las Vegas Hotel located at 3555 Las Vegas Blvd. South, Las Vegas, NV 89109-8919. The meeting will be closed to the public on Thursday, May 13, 2004, from 8:30 a.m. p.t. until 5:30 p.m. p.t. and Friday, May 14, 2004, from 9 a.m. p.t. until 12:30 p.m. p.t. for administrative purposes. The meeting will be open to the public on Friday, May 14, 2004, from 1:30 p.m. p.t. until 5:30 p.m. p.t., and Saturday, May 15, from 8:30 a.m. p.t. until 12 p.m. The additional time has been added due to additional agenda items being added.”

(3) On page 20964 column 2, last paragraph, the language “ Note: Last minute changes to the agenda are possible and could prevent effective advance notice.” is removed.

LaNita Van Dyke,
Acting Chief, Publications and Regulations Branch, Legal Processing Division, Associate Chief Counsel (Procedures and Administration).

[FR Doc. 04-10011 Filed 4-28-04; 4:58 pm]

BILLING CODE 4830-01-P